DEPARTMENT OF HOMELAND SECURITY

Coast Guard

33 CFR Part 117

[Docket No. USCG-2021-0012]

RIN 1625-AA09

Drawbridge Operation Regulation; Savannah River, Savannah, GA

AGENCY: Coast Guard, DHS.

ACTION: Final rule.

SUMMARY: The Coast Guard is changing the operating schedule that governs the Houlihan (US 17) Bridge, across the Savannah River, mile 21.6, in Savannah, Georgia, and the Seaboard System Railroad Bridge, across the Savannah River, mile 27.4, near Hardeeville, South Carolina. This action will increase the advance notification time for an opening at the bridges. The action would also update the name and geographic location of the bridges.

DATES: This rule is effective June 21, 2021.

ADDRESSES: To view documents mentioned in this preamble as being available in the docket, go to https://www.regulations.gov. Type USCG-2021-0012 in the “SEARCH” box and click “SEARCH.” Click on Open Docket Folder on the line associated with this rule.

FOR FURTHER INFORMATION CONTACT: If you have questions on this rule, call or email LT Alexander McConnell, with Coast Guard Marine Safety Unit Savannah; telephone 912-652-4353, x240, email Alexander.W.McConnell@uscg.mil.

SUPPLEMENTARY INFORMATION:

I. Table of Abbreviations

CFR Code of Federal Regulations

DHS Department of Homeland Security

FR Federal Register

OMB Office of Management and Budget

NPRM Notice of Proposed Rulemaking (Advance, Supplemental)

§ Section

U.S.C. United States Code

GDOT Georgia Department of Transportation

SR State Route

MHW Mean High Water

II. Background Information and Regulatory History

On February 25, 2021, the Coast Guard published a Notice of Proposed Rulemaking entitled Drawbridge Operation Regulation; Savannah River, Savannah, GA in the Federal Register (86 FR 11478). There we stated why we issued the NPRM, and invited comments on our proposed regulatory action related to this regulatory change. During the comment period that ended April 12, 2021, we received one comment which is addressed in Section IV of this Final Rule.

III. Legal Authority and Need for Rule

The Coast Guard is issuing this rule under the authority of 33 U.S.C. 499. The GDOT requested the Coast Guard consider changing the advance notification requirement for an opening from three hours to 24 hours at the Houlihan (US 17) Bridge. The Coast Guard also considered changing the advance notification requirement for the Seaboard System Railroad Bridge, located approximately six miles upstream of the Houlihan (US 17) Bridge, to a 24 hour advance notice providing consistency between the bridges.

The Houlihan (US 17) Bridge across the Savannah River, mile 21.6, in Savannah, Georgia, is a swing bridge with a vertical clearance of seven feet at MHW in the closed to navigation position and a horizontal clearance of 90 feet between the fender system. The operating schedule for the bridge is set forth in 33 CFR 117.371(a).

The Seaboard System Railroad Bridge across the Savannah River, mile 27.4, near Hardeeville, South Carolina, is a single-leaf bascule bridge with a vertical clearance of seven feet at MHW in the closed to navigation position and a horizontal clearance of 90 feet between the fender system. The operating schedule for the bridge is set forth in 33 CFR 117.371(b).

IV. Discussion of Comments, Changes and the Final Rule

The Coast Guard is changing the operating schedule that governs the Houlihan (US 17) Bridge across the Savannah River, mile 21.6, in Savannah, Georgia and the Seaboard System Railroad Bridge across the Savannah River, mile 27.4, near Hardeeville, South Carolina. The bridges currently operate with a three hour advance notice but will now require a 24 hour advance notice for an opening. Additionally, the name and geographic location of the bridges will be updated.

One comment was received. The commenter is in support of the changes as it will benefit the maintenance workers on the bridge and it does not pose a threat to the environment. Also stated by the commenter, “This action does not require the completion of an EIS under NEPA because it is not a major federal action and it does not pose a significant effect on the human environment.” Based on the comment received, there are no changes to the regulatory text.

V. Regulatory Analyses

We developed this rule after considering numerous statutes and Executive Orders related to rulemaking. Below we summarize our analyses based on a number of these statutes and Executive Orders, and we discuss First Amendment rights of protesters.

A. Regulatory Planning and Review

Executive Orders 12866 and 13563 direct agencies to assess the costs and benefits of available regulatory alternatives and, if regulation is necessary, to select regulatory approaches that maximize net benefits. This rule has not been designated a “significant regulatory action,” under Executive Order 12866. Accordingly, it has not been reviewed by the Office of Management and Budget (OMB).

This regulatory action determination is based on the ability that vessels can still transit the bridge given advanced notice. Vessels that can transit under the bridge without an opening may do so at any time.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received zero comments from the Small Business Administration on this rule. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table 3-1 of the U.S. Coast Guard Environmental Planning Implementation Procedures.

Neither a Record of Environmental Consideration nor a Memorandum for the Record are required for this rule.

G. Protest Activities

The Coast Guard respects the First Amendment rights of protesters. Protesters are asked to contact the person listed in the FOR FURTHER INFORMATION CONTACT section to coordinate protest activities so that your message can be received without jeopardizing the safety or security of people, places or vessels.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and Department of Homeland Security Delegation No. 0170.1.

2. Amend § 117.371 by revising paragraphs (a) and (b) to read as follows:

§ 117.371 Savannah River.

(a) The draw of the Houlihan (US 17) Bridge, mile 21.6 at Port Wentworth, Georgia, shall open if at least a 24-hour advance notice is given. Openings can be arranged by contacting Georgia Department of Transportation Savannah Area Office at 1-912-651-2144.

(b) The draw of the CSX Transportation Railroad Bridge, mile 27.4 near Hardeeville, South Carolina, shall open if at least a 24-hour advance notice is given. Openings can be arranged by contacting CSX Transportation at 1-800-232-0144.

* * * * *

Dated: May 17, 2021.
Eric C. Jones,
Rear Admiral, U.S. Coast Guard, Commander Seventh Coast Guard District.

[FR Doc. 2021-10739 Filed 5-20-21; 8:45 am]

BILLING CODE 9110-04-P